DEPARTMENT OF COMMERCE

Foreign-Trade Zones Board

[B-62-2015]

Foreign-Trade Zone 82—Mobile, Alabama; Application for Subzone; Outokumpu Stainless USA, LLC; Calvert, Alabama

An application has been submitted to the Foreign-Trade Zones (FTZ) Board by the City of Mobile, grantee of FTZ 82, requesting subzone status for the facility of Outokumpu Stainless USA, LLC (Outokumpu), located in Calvert, Alabama. The application was submitted pursuant to the provisions of the Foreign-Trade Zones Act, as amended (19 U.S.C. 81a-81u), and the regulations of the FTZ Board (15 CFR part 400). It was formally docketed on September 10, 2015.

The proposed subzone (1,998 acres) is located at 1 ThyssenKrupp Drive in Calvert (Mobile County). Production authority has already been approved for the facility (Doc. B-28-2015, 80 FR 51535, 8/25/2015). The Outokompu facility is currently designated as Subzone 82I with authority expiring on December 20, 2015.

In accordance with the FTZ Board's regulations, Camille Evans of the FTZ Staff is designated examiner to review the application and make recommendations to the FTZ Board.

Public comment is invited from interested parties. Submissions shall be addressed to the FTZ Board's Executive Secretary at the address below. The closing period for their receipt is November 2, 2015. Rebuttal comments in response to material submitted during the foregoing period may be submitted during the subsequent 15-day period to November 16, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: September 10, 2015.
Andrew McGilvray,
Executive Secretary.

[FR Doc. 2015-23647 Filed 9-18-15; 8:45 am]

BILLING CODE 3510-DS-P